DEPARTMENT OF TRANSPORTATION

Office of the Secretary

[Docket OST-01-9181]

Application of Homer Air, Inc. for Issuance of a Certificate of Public Convenience and Necessity

AGENCY: Department of Transportation.

ACTION: Notice of Order to Show Cause (Order 2004-6-22).

SUMMARY: The Department of Transportation is directing all interested persons to show cause why it should not issue an order finding that Homer Air, Inc., is fit, willing, and able, to engage in interstate scheduled air transportation of persons, property and mail under 49 U.S.C 41102.

DATES: Persons wishing to file objections should do so no later than July 9, 2004.

ADDRESSES: Objections and answers to objections should be filed in Docket OST-01-9181 and addressed to Department of Transportation Dockets (M-30, Room PL-401), 400 Seventh Street, SW., Washington, DC 20590 and should be served upon the parties listed in Attachment A to the order.

FOR FURTHER INFORMATION CONTACT: Patricia L. Thomas, Chief, Air Carrier Fitness Division (X-56, Room 6401), U.S. Department of Transportation, 400 Seventh Street, SW., Washington, DC 20590, (202) 366-9721.

Dated: June 25, 2004.
Karan K. Bhatia,
Assistant Secretary for Aviation and International Affairs.

[FR Doc. 04-15046 Filed 7-1-04; 8:45 am]

BILLING CODE 4910-62-P